DEPARTMENT OF HEALTH AND HUMAN SERVICES

Centers for Disease Control and Prevention

[60Day-11-0106]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol Walker, Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Preventive Health and Health Services Block Grant—Extension—National Center for Chronic Disease Prevention and Health Promotion (NCCDPHP), Centers for Disease Control and Prevention (CDC).

Background and Brief Description

The PHHS Block Grant program was established to provide awardees with a source of flexible funding for health promotion and disease prevention programs. Currently, 61 awardees (50 States, the District of Columbia, two American Indian Tribes, and eight U.S. territories) receive block grants to address locally-defined public health needs in innovative ways. Block Grants allow awardees to prioritize the use of funds and to fill funding gaps in programs that deal with the leading causes of death and disability. Block Grant funding also provides awardees with the ability to respond rapidly to emerging health issues, including outbreaks of diseases or pathogens. The PHHS Block Grant program is authorized by sections 1901-1907 of the Public Health Service Act.

As specified in the authorizing legislation, CDC currently collects information from Block Grant awardees to monitor their objectives and activities (Preventive Health and Health Services Block Grant, OMB No. 0920-0106, exp. 8/31/2011). Each awardee is required to submit an annual application for funding (Work Plan) that describes its objectives and the populations to be addressed, and an Annual Report that describes activities and progress. Information is submitted electronically through the Web-based Block Grant Information Management System (BGMIS). The BGMIS is designed to support Block Grant requirements specified in the program's authorizing legislation, such as adherence to the Healthy People (HP) framework. The current version of the BGMIS associates each awardee-defined activity with a specific HP National Objective, and identifies the location where funds are applied. Information items are broken down into discrete fields. Each objective is defined in SMART format (Specific, Measurable, Achievable, Realistic and Time-based), and includes a specified start date and end date.

CDC requests OMB approval to continue the information collection, without changes, for two years (through 8/31/2013). During this time, the CDC Block Grant program office will complete an internal planning process and replace the current Healthy People 2010 objectives with Healthy People 2020 objectives. CDC plans to submit a Revision request when decisions about the new awardee performance measures and updated BGMIS data elements are finalized.

During the period of this two-year Extension request, CDC will continue to use the BGMIS, without changes, to monitor awardee progress, identify activities and personnel supported with Block Grant funding, conduct compliance reviews of Block Grant awardees, and promote the use of evidence-based guidelines and interventions. There will be no changes to the number of respondents or the BGMIS data elements. However, since awardees can prepare upcoming submissions by modifying information already entered into the system, the estimated annual burden per respondent will decrease from 55 hours to 35 hours (a reduction of 5 hours per response for the Work Plan, and 15 hours per response for the Annual Report). The total estimated annualized reduction in burden is 1,200 hours. There are no costs to respondents other than their time.

Estimated Annualized Burden Hours
Respondents | Form name | Number of respondents | Number of responses per respondent | Average burden per response (in hrs.) | Total burden (in hours)
Block Grant Awardees | Work Plan | 61 | 1 | 20 | 1,220
| Annual Report | 61 | 1 | 15 | 915
Total |  |  |  | 122 | 2,135

Carol Walker,
Acting Reports Clearance Officer, Centers for Disease Control and Prevention.

[FR Doc. 2011-5170 Filed 3-7-11; 8:45 am]

BILLING CODE 4163-18-P